DEPARTMENT OF ENERGY

Agency Information Collection Extension

AGENCY: Department of Energy (DOE).

ACTION: Notice and request for comments.

SUMMARY: The Department of Energy (DOE), as part of its continuing effort to reduce paperwork and respondent burden, invites the general public to take this opportunity to comment on the “Generic Clearance for the Collection of Qualitative Feedback on Agency Service Delivery” for approval under the Paperwork Reduction Act (PRA) (44 U.S.C. 3501 et. seq.). This collection was developed as part of a Federal Government-wide effort to streamline the process for seeking feedback from the public on service delivery. This notice announces our intent to submit this collection to OMB for approval and solicits comments on specific aspects for the proposed information collection.

DATES: Comments regarding this proposed information collection must be received on or before June 30, 2014. If you anticipate difficulty in submitting comments within that period, contact the person listed below as soon as possible.

ADDRESSES: Written comments may be sent to Mrs. Chris Rouleau, PRA Officer, Records Management Division (IM-23), Office of the Chief Information Officer, U.S. Department of Energy, 1000 Independence Ave. SW., Washington, DC 20585, or by email at InformationCollection@hq.doe.gov.

FOR FURTHER INFORMATION CONTACT: Request for additional information or copies of the information collection supporting statement should be directed to the person listed in ADDRESSES of this document.

SUPPLEMENTARY INFORMATION: This information collection request contains (1) OMB No.: 1910-5160; (2) Information Collection Request Title: “Generic Clearance for the Collection of Qualitative Feedback on Agency Service Delivery”; (3) Type of Review: Extension; (4) Purpose: The proposed information collection activity provides a means to garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management; (5) Annual Estimated Number of Respondents: 10,000; (6) Annual Estimated Number of Total Responses: 10,000; (7) Annual Estimated Number of Burden Hours: 200,000; (8) Annual Estimated Reporting and Recordkeeping Cost Burden: There are no costs for Reporting and Recordkeeping.

Statutory Authority: Executive Order (EO) 13571, Streamlining Service Delivery and Improving Customer Service.

Issued in Washington, DC on April 23, 2014.
Troy Manigault,
Director, Records Management Division, IT Planning, Architecture, and E-Government, Office of the Chief Information Officer, U.S. Department of Energy.

[FR Doc. 2014-09873 Filed 4-29-14; 8:45 am]

BILLING CODE 6450-01-P